DEPARTMENT OF THE TREASURY

Submission for OMB Review; Comment Request

March 23, 2005.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW Washington, DC 20220.

DATES: Written comments should be received on or before April 29, 2005 to be assured of consideration.

Internal Revenue Service (IRS)

OMB Number: 1545-0731.

Regulation Number: PS-262-82.

Type of Review: Extension.

Title: PS-262-82 (Final) Definition of an S Corporation.

Description: The regulations provide the procedures and the statements to be filed by certain individuals for making the election under section 1361(d)(2), the refusal to consent to that election, or the revocation of that election. The statements required to be filed would be used to verify that taxpayers are complying with the requirements imposed by Congress under subchapter S.

Respondents: Individuals or households, business or other for-profit.

Estimated Number of Respondents: 1,005.

Estimated Burden Hours Respondent: 1 Hour.

Frequency of response: Other (Non-recurring).

Estimated Total Reporting Burden: 1,005 Hours.

Clearance Officer: Glenn P. Kirkland, (202) 622-3428, Internal Revenue Service, Room 6516, 1111 Constitution Avenue, NW., Washington, DC 20224.

OMB Reviewer: Joseph F. Lackey, Jr., (202) 395-7316, Office of Management and Budget, Room 10235, New Executive Office Building, Washington, DC 20503.

Christopher Davis,
Treasury PRA Assistant.

[FR Doc. 05-6266 Filed 3-29-05; 8:45 am]

BILLING CODE 4830-01-P